COMMISSION ON CIVIL RIGHTS

Agenda and Notice of Public Meeting of the Ohio Advisory Committee

Notice is hereby given, pursuant to the provisions of the rules and regulations of the U.S. Commission on Civil Rights (Commission), and the Federal Advisory Committee Act (FACA), that a fact finding meeting of the Ohio Advisory Committee to the Commission will convene at 9 a.m. and adjourn at 5 p.m. on April 4, 2012, at Wilmington College, McCoy Room, College Street, Wilmington, OH 45177. The purpose of the meeting is to conduct a fact finding on civil rights issues regarding barriers to entrepreneurship in Ohio. Participants of the meeting will include community representatives, government officials, business leaders, and other interested parties.

Members of the public are entitled to submit written comments; the comments must be received in the regional office by May 4, 2012. The address is 55 W. Monroe St., Suite 410, Chicago, IL 60603. Persons wishing to email their comments, or to present their comments verbally at the meeting, or who desire additional information should contact Carolyn Allen, Administrative Assistant, (312) 353-8311, or by email: callen@usccr.gov.

Hearing-impaired persons who will attend the meeting and require the services of a sign language interpreter should contact the Regional Office at least ten (10) working days before the scheduled date of the meeting.

Records generated from this meeting may be inspected and reproduced at the Midwestern Regional Office, as they become available, both before and after the meeting. Persons interested in the work of this advisory committee are advised to go to the Commission's Web site, www.usccr.gov, or to contact the Midwestern Regional Office at the above email or street address.

The meeting will be conducted pursuant to the provisions of the rules and regulations of the Commission and FACA.

Dated in Washington, DC, March 7, 2012.
Peter Minarik,
Acting Chief, Regional Programs Coordination Unit.

[FR Doc. 2012-5948 Filed 3-12-12; 8:45 am]

BILLING CODE 6335-01-P